DEPARTMENT OF JUSTICE

Bureau of Alcohol, Tobacco, Firearms and Explosives

[Docket No. ATF 25N]

Commerce in Explosives; List of Explosive Materials (2007R-7T)

AGENCY: Bureau of Alcohol, Tobacco, Firearms and Explosives (ATF), Department of Justice.

ACTION: Notice of list of explosive materials.

SUMMARY: Pursuant to 18 U.S.C. 841(d) and 27 CFR 555.23, the Department must publish and revise at least annually in the Federal Register a list of explosives determined to be within the coverage of 18 U.S.C. 841 et. seq. The list covers not only explosives, but also blasting agents and detonators, all of which are defined as explosive materials in 18 U.S.C. 841(c). This notice publishes the 2007 List of Explosive Materials.

DATES: The list becomes effective upon publication of this notice on December 7, 2007.

FOR FURTHER INFORMATION CONTACT: Gary Bangs, Chief; Explosives Industry Programs Branch; Arson and Explosives Programs Division; Bureau of Alcohol, Tobacco, Firearms and Explosives; United States Department of Justice; 99 New York Avenue, NE., Washington, DC 20226 (202-648-7120).

SUPPLEMENTARY INFORMATION: The list is intended to include any and all mixtures containing any of the materials on the list. Materials constituting blasting agents are marked by an asterisk. While the list is comprehensive, it is not all-inclusive. The fact that an explosive material is not on the list does not mean that it is not within the coverage of the law if it otherwise meets the statutory definitions in 18 U.S.C. 841. Explosive materials are listed alphabetically by their common names followed, where applicable, by chemical names and synonyms in brackets.

The Department has not added any new terms to the list of explosives or removed or revised any listing since its last publication.

This list supersedes the List of Explosive Materials dated September 27, 2006 (Docket No. ATF 19N, 71 FR 56555).

Notice of List of Explosive Materials

Pursuant to 18 U.S.C. 841(d) and 27 CFR 555.23, I hereby designate the following as explosive materials covered under 18 U.S.C. 841(c):

A

Acetylides of heavy metals

Aluminum containing polymeric propellant

Aluminum ophorite explosive

Amatex

Amatol

Ammonal

Ammonium nitrate explosive mixtures (cap sensitive)

*Ammonium nitrate explosive mixtures (non-cap sensitive)

Ammonium perchlorate having particle size less than 15 microns

Ammonium perchlorate composite propellant

Ammonium perchlorate explosive mixtures

Ammonium picrate [picrate of ammonia, Explosive D]

Ammonium salt lattice with isomorphously substituted inorganic salts

*ANFO [ammonium nitrate-fuel oil]

Aromatic nitro-compound explosive mixtures

Azide explosives

B

Baranol

Baratol

BEAF [1, 2-bis (2, 2-difluoro-2-nitroacetoxyethane)]

Black powder

Black powder based explosive mixtures

*Blasting agents, nitro-carbo-nitrates, including non-cap sensitive slurry and water gel explosives

Blasting caps

Blasting gelatin

Blasting powder

BTNEC [bis (trinitroethyl) carbonate]

BTNEN [bis (trinitroethyl) nitramine]

BTTN [1,2,4 butanetriol trinitrate]

Bulk salutes

Butyl tetryl

C

Calcium nitrate explosive mixture

Cellulose hexanitrate explosive mixture

Chlorate explosive mixtures

Composition A and variations

Composition B and variations

Composition C and variations

Copper acetylide

Cyanuric triazide

Cyclonite [RDX]

Cyclotetramethylenetetranitramine [HMX]

Cyclotol

Cyclotrimethylenetrinitramine [RDX]

D

DATB [diaminotrinitrobenzene]

DDNP [diazodinitrophenol]

DEGDN [diethyleneglycol dinitrate]

Detonating cord

Detonators

Dimethylol dimethyl methane dinitrate composition

Dinitroethyleneurea

Dinitroglycerine [glycerol dinitrate]

Dinitrophenol

Dinitrophenolates

Dinitrophenyl hydrazine

Dinitroresorcinol

Dinitrotoluene-sodium nitrate explosive mixtures

DIPAM [dipicramide; diaminohexanitrobiphenyl]

Dipicryl sulfone

Dipicrylamine

Display fireworks

DNPA [2,2-dinitropropyl acrylate]

DNPD [dinitropentano nitrile]

Dynamite

E

EDDN [ethylene diamine dinitrate]

EDNA [ethylenedinitramine]

Ednatol

EDNP [ethyl 4,4-dinitropentanoate]

EGDN [ethylene glycol dinitrate]

Erythritol tetranitrate explosives

Esters of nitro-substituted alcohols

Ethyl-tetryl

Explosive conitrates

Explosive gelatins

Explosive liquids

Explosive mixtures containing oxygen-releasing inorganic salts and hydrocarbons

Explosive mixtures containing oxygen-releasing inorganic salts and nitro bodies

Explosive mixtures containing oxygen-releasing inorganic salts and water insoluble fuels

Explosive mixtures containing oxygen-releasing inorganic salts and water soluble fuels

Explosive mixtures containing sensitized nitromethane

Explosive mixtures containing tetranitromethane (nitroform)

Explosive nitro compounds of aromatic hydrocarbons

Explosive organic nitrate mixtures

Explosive powders

F

Flash powder

Fulminate of mercury

Fulminate of silver

Fulminating gold

Fulminating mercury

Fulminating platinum

Fulminating silver

G

Gelatinized nitrocellulose

Gem-dinitro aliphatic explosive mixtures

Guanyl nitrosamino guanyl tetrazene

Guanyl nitrosamino guanylidene hydrazine

Guncotton

H

Heavy metal azides

Hexanite

Hexanitrodiphenylamine

Hexanitrostilbene

Hexogen [RDX]

Hexogene or octogene and a nitrated N-methylaniline

Hexolites

HMTD [hexamethylenetriperoxidediamine]

HMX [cyclo-1,3,5,7-tetramethylene 2,4,6,8-tetranitramine; Octogen]

Hydrazinium nitrate/hydrazine/aluminum explosive system

Hydrazoic acid

I

Igniter cord

Igniters

Initiating tube systems

K

KDNBF [potassium dinitrobenzo-furoxane]

L

Lead azide

Lead mannite

Lead mononitroresorcinate

Lead picrate

Lead salts, explosive

Lead styphnate [styphnate of lead, lead trinitroresorcinate]

Liquid nitrated polyol and trimethylolethane

Liquid oxygen explosives

M

Magnesium ophorite explosives

Mannitol hexanitrate

MDNP [methyl 4,4-dinitropentanoate]

MEAN [monoethanolamine nitrate]

Mercuric fulminate

Mercury oxalate

Mercury tartrate

Metriol trinitrate

Minol-2 [40% TNT, 40% ammonium nitrate, 20% aluminum]

MMAN [monomethylamine nitrate]; methylamine nitrate

Mononitrotoluene-nitroglycerin mixture

Monopropellants

N

NIBTN [nitroisobutametriol trinitrate]

Nitrate explosive mixtures

Nitrate sensitized with gelled nitroparaffin

Nitrated carbohydrate explosive

Nitrated glucoside explosive

Nitrated polyhydric alcohol explosives

Nitric acid and a nitro aromatic compound explosive

Nitric acid and carboxylic fuel explosive

Nitric acid explosive mixtures

Nitro aromatic explosive mixtures

Nitro compounds of furane explosive mixtures

Nitrocellulose explosive

Nitroderivative of urea explosive mixture

Nitrogelatin explosive

Nitrogen trichloride

Nitrogen tri-iodide

Nitroglycerine [NG, RNG, nitro, glyceryl trinitrate, trinitroglycerine]

Nitroglycide

Nitroglycol [ethylene glycol dinitrate, EGDN]

Nitroguanidine explosives

Nitronium perchlorate propellant mixtures

Nitroparaffins Explosive Grade and ammonium nitrate mixtures

Nitrostarch

Nitro-substituted carboxylic acids

Nitrourea

O

Octogen [HMX]

Octol [75 percent HMX, 25 percent TNT]

Organic amine nitrates

Organic nitramines

P

PBX [plastic bonded explosives]

Pellet powder

Penthrinite composition

Pentolite

Perchlorate explosive mixtures

Peroxide based explosive mixtures

PETN [nitropentaerythrite, pentaerythrite tetranitrate, pentaerythritol tetranitrate]

Picramic acid and its salts

Picramide

Picrate explosives

Picrate of potassium explosive mixtures

Picratol

Picric acid (manufactured as an explosive)

Picryl chloride

Picryl fluoride

PLX [95% nitromethane, 5% ethylenediamine]

Polynitro aliphatic compounds

Polyolpolynitrate-nitrocellulose explosive gels

Potassium chlorate and lead sulfocyanate explosive

Potassium nitrate explosive mixtures

Potassium nitroaminotetrazole

Pyrotechnic compositions

PYX [2,6-bis(picrylamino)] 3,5-dinitropyridine

R

RDX [cyclonite, hexogen, T4, cyclo-1,3,5,-trimethylene-2,4,6,-trinitramine; hexahydro-1,3,5-trinitro-S-triazine]

S

Safety fuse

Salts of organic amino sulfonic acid explosive mixture

Salutes (bulk)

Silver acetylide

Silver azide

Silver fulminate

Silver oxalate explosive mixtures

Silver styphnate

Silver tartrate explosive mixtures

Silver tetrazene

Slurried explosive mixtures of water, inorganic oxidizing salt, gelling agent, fuel, and sensitizer (cap sensitive)

Smokeless powder

Sodatol

Sodium amatol

Sodium azide explosive mixture

Sodium dinitro-ortho-cresolate

Sodium nitrate explosive mixtures

Sodium nitrate-potassium nitrate explosive mixture

Sodium picramate

Special fireworks

Squibs

Styphnic acid explosives

T

Tacot [tetranitro-2,3,5,6-dibenzo-1,3a,4,6a tetrazapentalene]

TATB [triaminotrinitrobenzene]

TATP [triacetonetriperoxide]

TEGDN [triethylene glycol dinitrate]

Tetranitrocarbazole

Tetrazene [tetracene, tetrazine, 1(5-tetrazolyl)-4-guanyl tetrazene hydrate]

Tetrazole explosives

Tetryl [2,4,6 tetranitro-N-methylaniline]

Tetrytol

Thickened inorganic oxidizer salt slurried explosive mixture

TMETN [trimethylolethane trinitrate]

TNEF [trinitroethyl formal]

TNEOC [trinitroethylorthocarbonate]

TNEOF [trinitroethylorthoformate]

TNT [trinitrotoluene, trotyl, trilite, triton]

Torpex

Tridite

Trimethylol ethyl methane trinitrate composition

Trimethylolthane trinitrate-nitrocellulose

Trimonite

Trinitroanisole

Trinitrobenzene

Trinitrobenzoic acid

Trinitrocresol

Trinitro-meta-cresol

Trinitronaphthalene

Trinitrophenetol

Trinitrophloroglucinol

Trinitroresorcinol

Tritonal

U

Urea nitrate

W

Water-bearing explosives having salts of oxidizing acids and nitrogen bases, sulfates, or sulfamates (cap sensitive)

Water-in-oil emulsion explosive compositions

X

Xanthamonas hydrophilic colloid explosive mixture

Approved: November 28, 2007.
Michael J. Sullivan,
Acting Director.

[FR Doc. E7-23729 Filed 12-6-07; 8:45 am]

BILLING CODE 4410-FY-P